DEPARTMENT OF COMMERCE

International Trade Administration

[A-489-807]

Certain Steel Concrete Reinforcing Bars From Turkey; Final Results, Rescission of Antidumping Duty Administrative Review in Part, and Determination To Revoke in Part

AGENCY: Import Administration, International Trade Administration, Department of Commerce.

SUMMARY: On May 6, 2005, the Department of Commerce (the Department) published the preliminary results of the administrative review of the antidumping duty order on certain steel concrete reinforcing bars (rebar) from Turkey (70 FR 23990). This review covers four producers/exporters of the subject merchandise to the United States. The period of review (POR) is April 1, 2003, through March 31, 2004. We are rescinding the review with respect to 18 companies because they had no shipments of subject merchandise to the United States during the POR. In addition, we have determined to revoke the antidumping duty order with respect to an additional exporter, ICDAS Celik Enerji Tersane ve Ulasim Sanayi, A.S. (ICDAS).

Based on our analysis of the comments received, we have made changes in the margin calculations. Therefore, the final results differ from the preliminary results. The final weighted-average dumping margins for the reviewed firms are listed below in the section entitled “Final Results of Review.”

EFFECTIVE DATE: November 8, 2005.

FOR FURTHER INFORMATION CONTACT: Irina Itkin or Alice Gibbons, Office of AD/CVD Operations, Office 2, Import Administration, International Trade Administration, U.S. Department of Commerce, 14th Street and Constitution Avenue, NW, Washington, DC, 20230; telephone (202) 482-0656 and (202) 482-0498, respectively.

SUPPLEMENTARY INFORMATION:

Background

This review covers the following four producers/exporters: Colakoglu Metalurji A.S. and Colakoglu Dis Ticaret (collectively “Colakoglu”); Diler Demir Celik Endustrisi ve Ticaret A.S., Yazici Demir Celik Sanayi ve Ticaret A.S., and Diler Dis Ticaret A.S. (collectively “Diler”); Habas Tibbi ve Sinai Gazlar Istihsal Endustrisi A.S. (Habas); and ICDAS.

On May 6, 2005, the Department published in the Federal Register the preliminary results of administrative review of the antidumping duty order on rebar from Turkey. See Certain Steel Concrete Reinforcing Bars from Turkey; Preliminary Results and Partial Rescission of Antidumping Duty Administrative Review and Notice of Intent To Revoke in Part, 70 FR 23990 (May 6, 2005) (Preliminary Results).

Prior to the preliminary results, the following companies informed the Department that they had no shipments to the United States during the POR: Cebitas Demir Celik Endustrisi A.S. (Cebitas); Cemtas Celik Makina Sanayi ve Ticaret A.S. (Cemtas); Demirsan Haddecilik Sanayi ve Ticaret A.S. (Demirsan); Ege Celik Endustrisi Sanayi ve Ticaret A.S. (Ege Celik); Ekinciler Holding A.S. and Ekinciler Demir Celik San A.S. (collectively “Ekinciler”); Iskenderun Iron & Steel Works Co. (Iskenderun); Izmir Demir Celik Sanayi A.S. (Izmir); Kaptan Demir Celik Endustrisi ve Ticaret A.S. (Kaptan); Metas Izmir Metalurji Fabrikasi Turk A.S. (Metas); Nurmet Celik Sanayi ve Ticaret A.S. (Nurmet); Nursan Celik Sanayi ve Haddecilik A.S. (Nursan); Sivas Demir Celik Isletmeleri A.S. (Sivas); and Tosyali Demir Celik Sanayi A.S. (Tosyali). We reviewed U.S. Customs and Border Protection (CBP) data and confirmed that there were no entries of subject merchandise from any of these companies. We also confirmed with CBP data that Ege Metal Demir Celik Sanayi ve Ticaret A.S. (Ege Metal); Kardemir--Karabuk Demir Celik Sanayi ve Ticaret A.S. (Karabuk); Kroman Celik Sanayi A.S. (Kroman); Kurum Demir Sanayi ve Ticaret Metalenerji A.S. (Kurum); and Ucel Haddecilik Sanayi ve Ticaret A.S. (Ucel) did not have entries of subject merchandise during the POR. Consequently, in accordance with 19 CFR 351.213(d)(3) and consistent with our practice, we are rescinding our review for Cebitas, Cemtas, Demirsan, Ege Celik, Ege Metal, Ekinciler, Iskenderun, Izmir, Kaptan, Karabuk, Kroman, Kurum, Metas, Nurmet, Nursan, Sivas, Tosyali, and Ucel. For further discussion, see the “Partial Rescission of Review” section of this notice, below.

We invited parties to comment on our preliminary results of review. In June and July 2005, we received case briefs from the petitioners (i.e., Gerdau AmeriSteel Corporation, Commercial Metals Company (SMI Steel Group), and Nucor Corporation), Diler, Habas, and ICDAS, and rebuttal briefs from the petitioners, Colakoglu, Diler, Habas, and ICDAS.

The Department has conducted this administrative review in accordance with section 751 of the Act.

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable in the Harmonized Tariff Schedule of the United States (HTSUS) under item numbers 7213.10.000 and 7214.20.000. The HTSUS subheadings are provided for convenience and customs purposes. The written description of the scope of this proceeding is dispositive.

Period of Review

The POR is April 1, 2003, through March 31, 2004.

Partial Rescission of Review

As noted above, Cebitas, Cemtas, Demirsan, Ege Celik, Ege Metal, Ekinciler, Iskenderun, Izmir, Kaptan, Karabuk, Kroman, Kurum, Metas, Nurmet, Nursan, Sivas, Tosyali, and Ucel had no shipments and/or entries of subject merchandise to the United States during the POR. We have confirmed this with CBP data. Therefore, in accordance with 19 CFR 351.213(d)(3) and consistent with the Department's practice, we are rescinding our review with respect to these companies. See, e.g., Certain Steel Concrete Reinforcing Bars from Turkey; Final Results, Rescission of Antidumping Administrative Review in Part, and Determination Not to Revoke in Part, 69 FR 64731, 64732 (Nov. 8, 2004) (2002-2003 Rebar Final).

Determination To Revoke Order, in Part

The Department may revoke, in whole or in part, an antidumping duty order upon completion of a review under section 751 of the Tariff Act of 1930, as amended (the Act). While Congress has not specified the procedures that the Department must follow in revoking an order, the Department has developed a procedure for revocation that is described in 19 CFR 351.222. This regulation requires, inter alia, that a company requesting revocation must submit the following: (1) A certification that the company has sold the subject merchandise at not less than normal value (NV) in the current review period and that the company will not sell subject merchandise at less than NV in the future; (2) a certification that the company sold commercial quantities of the subject merchandise to the United States in each of the three years forming the basis of the request; and (3) an agreement to immediate reinstatement of the order if the Department concludes that the company, subsequent to the revocation, sold subject merchandise at less than NV. See 19 CFR 351.222(e)(1). Upon receipt of such a request, the Department will consider: (1) Whether the company in question has sold subject merchandise at not less than NV for a period of at least three consecutive years; (2) whether the company has agreed in writing to its immediate reinstatement in the order, as long as any exporter or producer is subject to the order, if the Department concludes that the company, subsequent to the revocation, sold the subject merchandise at less than NV; and (3) whether the continued application of the antidumping duty order is otherwise necessary to offset dumping. See 19 CFR 351.222(b)(2)(i). See Sebacic Acid From the People's Republic of China: Final Results of Antidumping Duty Administrative Review and Determination To Revoke Order in Part, 67 FR 69719, 69720 (Nov. 19, 2002).

We have determined that the request from ICDAS meets all of the criteria under 19 CFR 351.222. With regard to the criteria of subsection 19 CFR 351.222(b)(2), our final margin calculations show that ICDAS sold rebar at not less than NV during the current review period. In addition, ICDAS sold rebar at not less than NV in the two previous administrative reviews in which it was involved (i.e., ICDAS's dumping margin was zero or de minimis). See 2002-2003 Rebar Final and Certain Steel Concrete Reinforcing Bars From Turkey; Final Results, Rescission of Antidumping Duty Administrative Review in Part, and Determination Not To Revoke in Part, 68 FR 53127 (Sept. 9, 2003). Also, we find that application of the antidumping duty order to ICDAS is no longer warranted for the following reasons: (1) the company had zero or de minimis margins for a period of at least three consecutive years; (2) the company has agreed to immediate reinstatement of the order if the Department finds that it has resumed making sales at less than NV; and (3) the continued application of the order is not otherwise necessary to offset dumping. For further discussion, see Comment 18 of the accompanying “Issues and Decision Memorandum” (Decision Memo) from Stephen J. Claeys, Deputy Assistant Secretary for Import Administration, to Joseph A. Spetrini, Acting Assistant Secretary for Import Administration, dated November 2, 2005. Therefore, we find that ICDAS qualifies for revocation of the antidumping duty order on rebar under 19 CFR 351.222(b)(2). Accordingly, we are revoking the order with respect to subject merchandise produced and exported by ICDAS.

Effective Date of Revocation

This revocation applies to all entries of subject merchandise that are produced and exported by ICDAS, and are entered, or withdrawn from warehouse, for consumption on or after April 1, 2004. The Department will order the suspension of liquidation ended for all such entries and will instruct CBP to release any cash deposits or bonds. The Department will further instruct CBP to refund with interest any cash deposits on entries made on or after April 1, 2004.

Cost of Production

As discussed in the Preliminary Results, we conducted an investigation to determine whether the respondents participating in the review made home market sales of the foreign like product during the POR at prices below their costs of production (COP) within the meaning

of section 773(b)(1) of the Act. We performed the cost test for these final results following the same methodology as in the Preliminary Results, except as discussed in the Decision Memo.

We found 20 percent or more of each respondent's sales of a given product during the reporting period were at prices less than the weighted-average COP for this period. Thus, we determined that these below-cost sales were made in “substantial quantities” within an extended period of time and at prices which did not permit the recovery of all costs within a reasonable period of time in the normal course of trade. See section 773(b)(2)(B) - (D) of the Act.

Therefore, for purposes of these final results, we found that Colakoglu, Diler, Habas and ICDAS made below-cost sales not in the ordinary course of trade. Consequently, we disregarded these sales for each respondent and used the remaining sales as the basis for determining NV pursuant to section 773(b)(1) of the Act.

Analysis of Comments Received

All issues raised in the case briefs by parties to this administrative review and to which we have responded are listed in the Appendix to this notice and addressed in the Decision Memo, which is adopted by this notice. Parties can find a complete discussion of all issues raised in this review and the corresponding recommendations in this public memorandum, which is on file in the Central Records Unit, room B-099, of the main Department building.

In addition, a complete version of the Decision Memo can be accessed directly on the Web at http://ia.ita.doc.gov/frn. The paper copy and electronic version of the Decision Memo are identical in content.

Changes Since the Preliminary Results

Based on our analysis of comments received, we have made certain changes in the margin calculations. These changes are discussed in the relevant sections of the Decision Memo.

Final Results of Review

We determine that the following weighted-average margin percentages exist for the period April 1, 2003, through March 31, 2004:

Manufacturer/producer/exporter | Margin percentage
Colakoglu | 0.00
Diler | 0.31
Habas | 26.07
ICDAS | 0.16

The Department shall determine, and CBP shall assess, antidumping duties on all appropriate entries. Pursuant to 19 CFR 351.212(b)(1), for all of Habas's sales and certain of ICDAS's sales and because we have the reported entered value of the U.S. sales, we have calculated importer-specific assessment rates based on the ratio of the total amount of antidumping duties calculated for the examined sales to the total entered value of those sales.

Regarding all of Colakoglu's and Diler's sales, as well as certain of ICDAS's sales, we note that these companies did not report the entered value for the U.S. sales in question. Accordingly, we have calculated importer-specific assessment rates for the merchandise in question by aggregating the dumping margins calculated for all U.S. sales to each importer and dividing this amount by the total quantity of those sales. To determine whether the duty assessment rates were de minimis, in accordance with the requirement set forth in 19 CFR 351.106(c)(2), we calculated importer-specific ad valorem ratios based on the export prices.

Pursuant to 19 CFR 351.106(c)(2), we will instruct CBP to liquidate without regard to antidumping duties any entries for which the assessment rate is de minimis (i.e., less than 0.50 percent). The Department will issue appraisement instructions directly to CBP.

Cash Deposit Requirements

Because we have revoked the order with respect to subject merchandise produced and exported by ICDAS, we will order CBP to terminate the suspension of liquidation for exports of such merchandise entered, or withdrawn from warehouse, for consumption on or after April 1, 2004, and to refund all cash deposits collected.

The following deposit requirements will be effective upon publication of this notice of final results of administrative review for all shipments of rebar from Turkey (except shipments from ICDAS noted above) entered, or withdrawn from warehouse, for consumption on or after the date of publication, as provided by section 751(a)(1) of the Act: 1) The cash deposit rates for the reviewed companies will be the rates indicated above (except for ICDAS and Diler, whose weighted-average margins are de minimis, where no cash deposit will be required); 2) for previously investigated companies not listed above, the cash deposit rate will continue to be the company-specific rate published for the most recent period; 3) if the exporter is not a firm covered in this review, or in the less-than-fair-value (LTFV) investigation, but the manufacturer is, then the cash deposit rate will be the rate established for the most recent period for the manufacturer of the merchandise; and 4) the cash deposit rate for all other manufacturers or exporters will continue to be 16.06 percent, the all others rate established in the LTFV investigation.

These deposit requirements, when imposed, shall remain in effect until publication of the final results of the next administrative review.

This notice also serves as a final reminder to importers of their responsibility under 19 CFR 351.402(f)(2) to file a certificate regarding the reimbursement of antidumping duties prior to liquidation of the relevant entries during this review period. Failure to comply with this

requirement could result in the Secretary's presumption that reimbursement of antidumping duties occurred and the subsequent assessment of doubled antidumping duties.

This notice also serves as the only reminder to parties subject to administrative protective order (APO) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination and notice in accordance with sections 751(a)(1) and 777(i) of the Act.

Dated: November 2, 2005.
Joseph A. Spetrini,
Acting Assistant Secretary for Import Administration.

Appendix Issues in Decision Memorandum

General Issues

1. Cost Averaging Periods for Habas and ICDAS

2. Depreciation Expenses

3. Matching Criteria

4. Exchange Rates

5. Universe of Sales

6. Date of Sale for Habas and ICDAS

7. Ministerial Errors in the Preliminary Results

Company-Specific Issues

8. Cost of Billets for Colakoglu

9. Financing Expenses for Colakoglu

10. Movement Expenses Provided by an Affiliate of Diler

11. Affiliated Party Billet Purchases for Diler

12. Edge and Defective Rebar Offsets to Cost of Manufacturing (COM) for Diler

13. Offsets to General and Administrative (G&A) Expenses for Diler

14. Denominator of the G&A and Interest Expense Calculations for Diler

15. Interest Expense Calculation for Diler

16. Omitted Costs for Diler

17. Offsets to G&A Expenses for Habas

18. Revocation for ICDAS

19. Affiliated Party Sales in ICDAS's Home Market

20. Arm's-Length Test for ICDAS

21. Level of Trade (LOT) for ICDAS

22. Whether to Treat ICDAS's U.S. Sales as Export Price (EP) or Constructed Export Price (CEP) Sales

23. Collapsing Issue for ICDAS

24. Startup Adjustment for ICDAS

25. Gain on Sale of Ship for ICDAS

26. Calculation of G&A Expenses for ICDAS

27. Exchange Rate Gains for ICDAS

[FR Doc. 05-22242 Filed 11-7-05; 8:45 am]

BILLING CODE 3510-DS-S